DEPARTMENT OF TRANSPORTATION

Federal Aviation Administration

14 CFR Part 39

[Docket No. 2001-NM-38-AD; Amendment 39-12334; AD 2001-14-23]

RIN 2120-AA64

Airworthiness Directives; Aerospatiale Model ATR72-101, -201, -102, -202, -211, and -212 Series Airplanes

AGENCY: Federal Aviation Administration, DOT.

ACTION: Final rule.

SUMMARY: This amendment adopts a new airworthiness directive (AD), applicable to certain Aerospatiale Model ATR72-101, -201, -102, -202, -211, and -212 series airplanes, that requires a one-time inspection of harness route 2P and the pitch control cable for wire chafing, corrective action, if necessary; and replacement of the clamp retaining the power supply cable loom of the green circuit hydraulic pump at frame 28 with a smaller clamp in a different orientation. This action is necessary to prevent the chafing of electrical wires, which could cause a short circuit and failure of the elevator control cable and the green system hydraulic pump, resulting in reduced controllability of the airplane and consequent injury to the crew and passengers. This action is intended to address the identified unsafe condition.

DATES: Effective August 28, 2001.

The incorporation by reference of certain publications listed in the regulations is approved by the Director of the Federal Register as of August 28, 2001.

ADDRESSES: The service information referenced in this AD may be obtained from Aerospatiale, 316 Route de Bayonne, 31060 Toulouse, Cedex 03, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Aerospatiale Model ATR72-101, -201, -102, -202, -211, and -212 series airplanes was published in the Federal Register on April 26, 2001 (66 FR 20946). That action proposed to require replacement of the clamp retaining the power supply cable loom of the green circuit hydraulic pump at frame 28 with a smaller clamp in a different orientation.

Comments

Interested persons have been afforded an opportunity to participate in the making of this amendment. Due consideration has been given to the single comment received.

The commenter expresses concern that the final rule be issued as quickly as possible.

The FAA concurs, and the final rule is issued as proposed.

Conclusion

After careful review of the available data, including the comment noted above, the FAA has determined that air safety and the public interest require the adoption of the rule as proposed.

Cost Impact

The FAA estimates that 60 airplanes of U.S. registry will be affected by this AD, that it will take approximately 1 work hour per airplane to accomplish the required inspection and replacement, and that the average labor rate is $60 per work hour. Required parts will be supplied by the manufacturer at no cost to the operators. Based on these figures, the cost impact of the actions required by this AD on U.S. operators is estimated to be $3,600, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-23 Aerospatiale: Amendment 39-12334. Docket 2001-NM-38-AD.

Applicability: Model ATR72-101, -201, -102, -202, -211, and -212 series airplanes; certificated in any category; except those on which Modification 3719 has been performed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the chafing of electrical wires, which could cause a short circuit and failure of the elevator control cable and the green system hydraulic pump, resulting in reduced controllability of the airplane and consequent injury to the crew and passengers, accomplish the following:

Inspection and Corrective Action

(a) Within 25 days after the effective date of this AD: Perform a general visual inspection of harness route 2P and the pitch control cable for chafing, in accordance with Avions de Transport Regional Service Bulletin ATR72-92-1004, dated January 26, 2001.

(1) If no chafing is found, no further action is required by this paragraph.

(2) If any chafing of the harness route 2P or the pitch control cable is found during the inspection, prior to further flight, replace the applicable part with a new or serviceable part in accordance with Avions de Transport Regional Service Bulletin ATR72-92-1004, dated January 26, 2001.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Replacement

(b) Within 25 days after the effective date of this AD: Remove the oversized clamp (20 mm), part number (P/N) NSA935807-20, at frame 28, which retains power supply cables loom 2P for the green circuit hydraulic pump, and install a 16 mm clamp, P/N NSA935807-16, with new orientation, in accordance with Avions de Transport Regional Service Bulletin ATR72-92-1004, dated January 26, 2001.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Avions de Transport Regional Service Bulletin ATR72-92-1004, dated January 26, 2001. This incorporation by reference was approved by the Director of the Federal Register in accordance with 5 U.S.C. 552(a) and 1 CFR part 51. Copies may be obtained from Aerospatiale, 316 Route de Bayonne, 31060 Toulouse, Cedex 03, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-056-055(B), dated February 7, 2001.

Effective Date

(f) This amendment becomes effective on August 28, 2001.

Issued in Renton, Washington, on July 12, 2001.
Vi L. Lipski,
Manager, Transport Airplane Directorate, Aircraft Certification Service.

[FR Doc. 01-18020 Filed 7-23-01; 8:45 am]

BILLING CODE 4910-13-P